DEPARTMENT OF COMMERCE

International Trade Administration

University of Saskatchewan, et al.; Notice of Consolidated Decision on Applications for Duty-Free Entry of Scientific Instruments

This is a decision consolidated pursuant to section 6(c) of the Educational, Scientific, and Cultural Materials Importation Act of 1966 (Pub. L. 89-651, 80 Stat. 897; 15 CFR part 301). Related records can be viewed between 8:30 A.M. and 5 P.M. in Suite 4100W, Franklin Court Building, U.S. Department of Commerce, 1099 14th Street, NW, Washington, DC.

Comments: None received. Decision: Approved. No instrument of equivalent scientific value to the foreign instruments described below, for such purposes as each is intended to be used, is being manufactured in the United States.

Docket Number: 02-013. Applicant: University of Saskatchewan. Saskatoon, SK, Canada S7N 5C9. Instrument: Photoelectron Emission Microscope, Model PEEM III. Manufacturer: ELMITEC GmbH, Germany. Intended Use: See notice at 67 FR 35960, May 22, 2002. Reasons: The foreign instrument provides: (1) A lateral spatial resolution of 7 nm and (2) upgradeability for aberration corrected imaging. Advice received from: National Institutes of Health, June 5, 2002.

Docket Number: 02-017. Applicant: Emory University, Atlanta, GA 30322. Instrument: Micromanipulator Assembly for Slice Physiology Setup. Manufacturer: Luigs & Neumann, Germany. Intended Use: See notice at 67 FR 3776, May 30, 2002. Reasons: The foreign instrument provides: (1) Customized design for the type of electrophysiological experiments being performed and (2) computer control of microscope and manipulator positioning. Advice received from: National Institutes of Health, June 5, 2002.

The National Institutes of Health advises in its memoranda that (1) the capabilities of each of the foreign instruments described above are pertinent to each applicant's intended purpose and (2) it knows of no domestic instrument or apparatus of equivalent scientific value for the intended use of each instrument.

We know of no other instrument or apparatus being manufactured in the United States which is of equivalent scientific value to any of the foreign instruments.

Gerald A. Zerdy,
Program Manager, Statutory Import Programs Staff.

[FR Doc. 02-16656 Filed 7-1-02; 8:45 am]

BILLING CODE 3510-DS-P